DEPARTMENT OF THE INTERIOR

Bureau of Land Management

[ES-032-4-1430-ES]

Realty Action; Recreation and Public Purpose Act Classification; Oneida County, WI

AGENCY: Bureau of Land Management, Interior.

ACTION: Notice of realty action.

SUMMARY: In accordance with Section 7 of the Taylor Grazing Act of June 28, 1934 and Executive Order 6964: Withdrawal for Classification of All Public Land in Certain States, dated February 5, 1935, the following described land is classified as suitable for conveyance to the State of Wisconsin Board of Commissioners of Public Lands, under the provisions of the Recreation and Public Purposes (R&PP) Act of 1926, as amended.

Fourth Principal Meridian

T. 36 N., R. 8 E.,

Sec. 22, Lot 12.

The area described contains 32.47 acres in Oneida County.

DATES: The Bureau of Land Management (BLM)-Eastern States, Milwaukee Field Office must receive comments on or before May 17, 2004.

ADDRESSES: BLM-Eastern States, Milwaukee Field Office, 626 East Wisconsin Avenue, Suite 200, Milwaukee, Wisconsin 53202.

FOR FURTHER INFORMATION CONTACT: Marcia Sieckman, 414-297-4402.

SUPPLEMENTARY INFORMATION: Detailed information concerning this action is available for review at the office of the BLM-Eastern States, Milwaukee Field Office, Wisconsin.

On April 2, 2004, the above-described land will be segregated from all forms of disposal or appropriation under the public land laws, except for conveyance under the R&PP Act and leasing under the mineral leasing laws. Interested parties may submit comments regarding the proposed conveyance or classification of the land to the Field Manager, BLM Eastern States, Milwaukee Field Office until May 17, 2004.

Classification Comments: Interested parties may submit comments involving the suitability of the land for R&PP Act classification, and particularly, whether the land is physically suited for the proposal, whether the use will maximize the future use or uses of the land, whether the use is consistent with the local planning and zoning, or if the use is consistent with the State and Federal programs.

Application Comments: Interested parties may submit comments regarding the specific use proposed in the application and plan of development, the management plan, whether the BLM followed proper administrative procedures in reaching the decision, or any other factor not directly related to the suitability of the land.

Any adverse comments will be evaluated by the State Director who may sustain, vacate, or modify this realty action. If no adverse comments are received, the classification will become effective on June 1, 2004.

The State of Wisconsin Board of Commissioners of Public Lands (BCPL) proposes to add Lot 12 to the Lily Lake Outdoor Recreation and Education Project. Lot 12 is bordered on the west and south by two parcels within the Lily Lake Outdoor Recreation and Education Project. The addition of Lot 12 will consolidate BCPL ownership on Lily Lake. This action classifies the land for disposal, to protect natural resource values and provide recreation and environmental education. The subject land was identified in the Wisconsin Resource Management Plan Amendment approved March 2, 2001, as not needed for Federal purposes and having potential for disposal to eliminate scattered tracts and improve land ownership patterns.

The patent when issued will be subject to the following terms, conditions and reservations:

1. Provisions of the R&PP Act of 1926, as amended and to all applicable regulations of the Secretary of the Interior.

2. Valid existing rights.

3. All minerals are reserved to the United States, together with the right to prospect for, mine and remove the minerals.

4. Terms and conditions identified through the site specific environmental analysis.

5. Any other rights or reservations that the authorized officer deems appropriate to ensure public access and proper management of Federal lands and interest therein.

Authority: 943 U.S.C. 869 et seq.; 43 U.S.C. 315f; Executive Order 6964; 43 CFR 2741.5(h)(3).

Dated: February 18, 2004.
Terry Lewis,
Acting Milwaukee Field Manager.

[FR Doc. 04-7464 Filed 4-1-04; 8:45 am]

BILLING CODE 4310-GJ-P